DEPARTMENT OF AGRICULTURE

Forest Service

Ashley National Forest; Utah; Ashley-Dry Fork Grazing Allotments

AGENCY: Forest Service, USDA.

ACTION: Notice of intent to prepare an environmental impact statement.

SUMMARY: The Ashley National Forest is analyzing a proposal to continue cattle grazing on the Black Canyon, Lake Mountain and Dry Fork Allotments located on the Vernal Ranger District, in Uintah County.

DATES: Comments concerning the scope of the analysis must be received my March 7, 2004. The draft environmental impact statement is expected in November 2004 and the final environmental impact statement is expected in April 2005.

ADDRESSES: Send written comments to Scott Steinberg, Vernal District Ranger, Vernal Ranger District, 355 N. Vernal Avenue, Vernal UT 84078 or e-mail ssteinberg@fs.fed.us. For further information mail correspondence to Scott Steinberg, Vernal District Ranger, Vernal Ranger District, 355 N. Vernal Avenue, Vernal UT, 84078.

FOR FURTHER INFORMATION CONTACT: William Stroh, ID Team Leader, Ashley National Forest, 355 N. Vernal Avenue, Vernal UT 84078, (435) 781-5179.

SUPPLEMENTARY INFORMATION: The Black Canyon Allotment includes 37,449 acres of National Forest System land. The original boundaries were established in the early 1970's by combining the former Cow Canyon Sheep and Dry Fork Cattle Allotments. Some additional acres were also added in Ashley Gorge and from the area known as the Sheep's Trail Allotment. An additional 1,280 acres were added in 2000 from the Lakeshore Basin Allotment.

The Lake Mountain Allotment includes 7,971 acres of National Forest System Land. The original boundaries were carved out of the Mosby Mountain Allotment in 1954. In 1977, the Lake Mountain Allotment was formed by combining the Lake Mountain-Flat Spring Allotment with parts of the former Mosby Canyon and Dry Fork Canyon Allotments.

The Dry Fork Allotment includes 17,918 acres of National Forest Service land. The allotment was established in 1977-78. The allotment was formed from all or parts of the Mosby Mountain, Mill Canyon, and Dry Fork Sheep and Goat Allotments. With the above allotments the number of cattle can be adjusted depending on variations in precipitation, plant readiness, and range condition.

Purpose and Need for Action

The original environmental analyses for these allotments were written in conjunction with the Allotment Management Plans in 1978. Since 1978, several wildlife and fish species have become imperiled and have either been listed by the U.S. Fish and Wildlife Service as threatened or have been addressed in Conservation Agreements or Management Guidelines. These species have been afforded additional protection by additional grazing requirements. Forest Service policy on grazing in riparian areas has also been implemented after the Allotment Management Plans were originally put into practice. The Ashley National Forest has implemented these requirements and policy by adaptive management and has used the Annual Operating Instructions as the vehicle for change.

The Ashley National Forest has decided there have been sufficient changes in the physical characteristics of the allotments in addition to regulatory and policy changes, that an updated review of the allotments is warranted.

Proposed Action

This alternative would develop forage utilization standards for individual grazing allotments. Allotment Management Plans would be revised to meet utilization standards and additional environmental protection requirements that recent regulations and policy changes have required. This would include incorporation of mitigation identified in the following in the plan: the Canada Lynx Conservation Assessment and Strategy, the Conservation Strategy and Agreement for the Northern Goshawk Habitat in Utah, Guidelines to Manage Sage Grouse Populations and Their Habitats, the Colorado River Cutthroat Trout Conservation Agreement, and riparian management guidelines.

This Alternative would also analyze the changes in grazing strategy that have recently been incorporated in the Annual Operating Plans.

Possible Alternatives

The No Grazing Alternative would revoke grazing privileges for the allotment and permits would not be issued.

Responsible Official

The Vernal District Ranger, Scott Steinberg is the responsible official. The address is 355 North Vernal Avenue, Vernal, UT 84078.

Nature of Decision To Be Made

The decision to be made is: Should the Forest Service continue to allow grazing on the Black Canyon, Lake Mountain, and Dry Fork Allotments and along with this continued grazing should new forage utilization standards be developed?

Scoping Process

Public participation is especially important at several points during the analysis, particularly during initial scoping and review of the draft EIS. Individuals, organizations, federal, state, and local agencies who are interested in or affected by the decision are invited to participate in this scoping process. The information will be used in the preparation of the draft EIS.

Preliminary Issues

The following is a preliminary list of issues identified by the ID Team. Other issues raised during public involvement will also be discussed in this EIS. The preliminary issues include:

1. Effects on Water Quality; Soils; Long term Productivity and Nutrient Cycling.

2. Effects On Composition and Structure of Vegetation on Uplands as well as in Riparian Areas.

3. Effects of competition between wild ungulates and cattle.

4. Effects on Fisheries and aquatic habitats.

5. Effects on dispersed recreation.

6. Effects on grazing permittees and long established traditional grazing use.

7. Effects to other wildlife.

8. Effects to Sims Peak Natural Research Area.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: January 23, 2004.
Scott Steinberg,
District Ranger.

[FR Doc. 04-2140 Filed 2-2-04; 8:45 am]

BILLING CODE 3410-11-M